DEPARTMENT OF THE INTERIOR

Fish and Wildlife Service

Establishment of the Kingman Reef National Wildlife Refuge

AGENCY: Fish and Wildlife Service, Interior.

ACTION: Notice.

SUMMARY: The Director of the U.S. Fish and Wildlife Service approved the establishment of the Kingman Reef National Wildlife Refuge in the central Pacific Ocean to protect the coral reef ecosystem for the benefit of the wildlife that live on the lands and in the waters of the refuge.

DATES: This action was effective on January 18, 2001.

FOR FURTHER INFORMATION CONTACT: Charles Houghten with the Fish and Wildlife Service in Portland, Oregon, 503-231-6207.

SUPPLEMENTARY INFORMATION: The Director of the U.S. Fish and Wildlife Service (we) approved the establishment of the Kingman Reef National Wildlife Refuge to protect approximately 25,874 acres (10,478.97 hectares) of submerged coral reefs, and includes a total of 483,699 acres (195,898.09 hectares) of submerged lands. The refuge boundary is designated to the extent of the 12-nautical mile (12 NM) territorial sea. In addition to a spectacular diversity of coral reef fishes, corals, and other marine organisms, Kingman Reef provides roosting, feeding and other essential habitat for migratory Pacific seabirds, and supports migratory shorebirds, and threatened green sea turtles.

The authority to establish the Kingman Reef National Wildlife Refuge is the Endangered Species Act of 1976, as amended (16 U.S.C. 1531-1544). The U.S. Navy has a defense reservation over Kingman Reef, but it may be revoked in the future. We have been delegated administrative jurisdiction and control of Kingman Reef, including the reefs and territorial waters surrounding the island, by the Secretary of the Interior for the purpose of carrying out the mission of the National Wildlife Refuge System in accordance with the National Wildlife Refuge System Administration Act of 1966, as amended (16 U.S.C. 668dd-668ee).

The refuge encompasses emergent lands, coral reefs, and submerged lands and associated waters to 12-NM. We will manage the refuge for the conservation and management of native species of wildlife and fish and their habitats. We will give wildlife species identified as endangered or threatened management priority and will emphasize the stewardship of endangered and threatened sea turtles, migratory seabirds that forage in the refuge waters, and the coral reef and pelagic wildlife. Our management actions include protection of the refuge waters and wildlife from commercial fishing activities, enhancement of the environment through the implementation of navigational guidelines and aids to navigation that will protect the shallow reefs from maritime groundings, periodic monitoring surveys of the coral reef environment, and periodic clearance of any marine debris. We will, through the establishment of the refuge, establish a no-take marine preserve in the waters of the refuge. Therefore, we will close the refuge to commercial fishing. We will also do scientific research and monitoring.

In compliance with our policy and the National Environmental Policy Act of 1969, we distributed an Environmental Assessment and a Conceptual Management Plan for a 30-day public review and comment period. We evaluated two alternatives for the protection and management of wildlife and habitat.

Based on the documentation contained in the revised Environmental Assessment and Conceptual Management Plan, we signed a Finding of No Significant Impact on January 17, 2001. The Conceptual Management Plan will serve as an interim management plan until we develop a Comprehensive Conservation Plan.

Dated: January 18, 2001.
Jamie Rappaport Clark,
Director, U.S. Fish and Wildlife Service.

[FR Doc. 01-2148 Filed 1-23-01; 8:45 am]

BILLING CODE 4310-55-P